ENVIRONMENTAL PROTECTION AGENCY

40 CFR Part 52

[R09-OAR-2005-CA-0002; FRL -7945-2]

Revision to the California State Implementation Plan, Ventura County Air Pollution Control District

AGENCY: Environmental Protection Agency (EPA).

ACTION: Direct final rule.

SUMMARY: EPA is taking direct final action to approve revisions to the Ventura County Air Pollution Control District (VCAPCD) portion of the California State Implementation Plan (SIP). Under authority of the Clean Air Act as amended in 1990 (CAA or the Act), we are approving local rules that address the opacity standard; PM-10, CO, volatile organic compound (VOC), and SO2 emissions from industrial processes; and source tests. We are also rescinding local rules that concern exemptions from emission standards; analytical methods; and PM-10, CO, and SO2 emission standards.

DATES: This rule is effective on October 11, 2005, without further notice, unless EPA receives adverse comments by September 8, 2005. If we receive such comments, we will publish a timely withdrawal in the Federal Register to notify the public that this rule will not take effect.

ADDRESSES: Submit comments, identified by docket number R09-OAR-2005-CA-0002, by one of the following methods:

• Agency Web site: http://docket.epa.gov/rmepub/. EPA prefers receiving comments through this electronic public docket and comment system. Follow the on-line instructions to submit comments.

• Federal eRulemaking Portal: http://www.regulations.gov. Follow the on-line instructions.

• E-mail: steckel.andrew@epa.gov.

• Mail or deliver: Andrew Steckel (AIR-4), U.S. Environmental Protection Agency Region IX, 75 Hawthorne Street, San Francisco, CA 94105.

Instructions: All comments will be included in the public docket without change and may be made available online at http://docket.epa.gov/rmepub/, including any personal information provided, unless the comment includes Confidential Business Information (CBI) or other information whose disclosure is restricted by statute. Information that you consider CBI or otherwise protected should be clearly identified as such and should not be submitted through the agency Web site, eRulemaking portal, or e-mail. The agency Web site and eRulemaking portal are “anonymous access” systems, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://docket.epa.gov/rmepub and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed below.

FOR FURTHER INFORMATION CONTACT: Al Petersen, Rulemaking Office (AIR-4), U.S. Environmental Protection Agency, Region IX, (415) 947-4118, petersen.alfred@epa.gov.

SUPPLEMENTARY INFORMATION: Throughout this document, “we,” “us” and “our” refer to EPA.

Table of Contents

I. The State's Submittal

A. What rules did the State submit?

B. Are there other versions of these rules?

C. What are the purposes of the submitted rule revisions?

II. EPA's Evaluation and Action

A. How Is EPA evaluating the rules?

B. Do the rules meet the evaluation criteria?

C. Public comment and final action

III. Statutory and Executive Order Reviews

I. The State's Submittal

A. What Rules Did the State Submit?

Table 1 lists the rules we are approving or rescinding with the date that they were revised or rescinded by the local air agency and submitted by the California Air Resources Board (CARB).

Table 1.—Submitted Rules
Local agency | Rule No. | Rule title | Adopted, revised, or rescinded | Submimtted
VCAPCD | 50 | Opacity | 04/13/04 Revised | 07/19/04
VCAPCD | 52 | Particulate Matter—Concentration (Grain Loading) | 04/13/04 Revised | 07/19/04
VCAPCD | 53 | Particulate Matter—Process Weight | 04/13/04 Revised | 07/19/04
VCAPCD | 55 | Exemptions from Emission Standards | 04/13/04 Rescinded | 07/19/04
VCAPCD | 60 | New Non-Mobile Equipment—Sulfur Dioxide, Nitrogen Oxides, and Particulate Matter | 04/13/04 Rescinded | 07/19/04
VCAPCD | 68 | Carbon Monoxide | 04/13/04 Revised | 07/19/04
VCAPCD | 74.25 | Restaurant Cooking Operations | 10/12/04 Adopted | 01/13/05
VCAPCD | 100 | Analytical Methods | 04/13/04 Rescinded | 07/19/04
VCAPCD | 102 | Source Tests | 04/13/04 Revised | 07/19/04

On August 10, 2004, the submittal of the rules and rescissions in Table 1, except for Rule 74.25, was found to meet the completeness criteria in 40 CFR part 51, appendix V, which must be met before formal EPA review. On February 16, 2005, the submittal of Rule 74.25 was found to meet the completeness criteria.

B. Are There Other Versions of These Rules?

We approved a version of VCAPCD Rules 50, 52, 53, and 100 into the SIP on September 22, 1972 (37 FR 19806). We approved a version of VCAPCD Rule 55 into the SIP on August 6, 1990 (55 FR 31832). We approved a version of VCAPCD Rule 60 into the SIP on August 15, 1977 (42 FR 41121). We approved a version of VCAPCD Rule 68 into the SIP on August 6, 2001 (66 FR 40898). We approved a version of VCAPCD Rule 102 into the SIP on June 18, 1982 (47 FR 26389). There is no SIP-approved version of Rule 74.25.

C. What Are the Purposes of the Submitted Rules?

Section 110(a) of the CAA requires states to submit regulations that control volatile organic compounds, oxides of nitrogen, particulate matter, and other air pollutants which harm human health and the environment. These rules were developed as part of the local agency's program to control these pollutants.

The purpose of the new rule is as follows:

• Rule 74.25 requires removal of at least 83% of the VOC and PM-10 emissions from restaurant conveyorized charbroilers.

The purposes of revising the rules relative to the SIP rules are to make the following changes:

• Rule 50 adds EPA Method 9 for determining compliance with the rule and adds seven exemptions to the rule for source categories, most of which are already exempted elsewhere.

• Rules 52 and 53 add exemptions for clarity of applicability for boilers, water heaters, process heaters, and space heaters that combust liquid or gaseous fuels or waste gases that emit only combustion products, add exemptions for source categories that are regulated by Rules 56 and 74.1, add exemptions for internal combustion engines and flares, and add test methods and definitions.

• Rule 68 adds exemptions for clarity of applicability for boilers, steam generators, water heaters, process heaters, space heaters, gas turbines, flares, and open outdoor fires and adds test methods and definitions.

• Rule 102 adds the requirement that tests be performed in strict accordance with the test methods specified in the rule and to change the time of reporting to 45 days after the tests are completed.

The purposes of rescinding three rules are as follows:

• Rule 55 rescission removes the exemption rule and transfers the exemptions in the rule to Rules 50 and 51 and deletes the inactive exemption for short-duration experimental or research operations.

• Rule 60 rescission removes a rule containing obsolete non-stringent limits on PM-10, CO, and SO2 emissions from new non-mobile equipment and transfer regulation of these emissions to Rule 26, New Source Review.

• Rule 100 rescission removes an obsolete rule concerning test methods, which are now contained in relevant individual rules.

II. EPA's Evaluation and Action

A. How is EPA Evaluating the Rules?

Generally, prohibitory SIP rules must be enforceable (see section 110(a) of the CAA), must require Reasonably Available Control Technology (RACT) for major volatile organic compound (VOC) sources in ozone nonattainment areas (see section 182(a)(2)(A)), and must not relax existing requirements (see sections 110(l) and 193). The VCAPCD regulates a 1-hour ozone nonattainment area, but there are no major VOC sources regulated by the rules in this action. There are control technology requirements for PM-10 nonattainment areas, but VCAPCD is in attainment for PM-10 and CO (see 40 CFR part 81).

The following guidance documents were used for reference:

• Requirements for Preparation, Adoption, and Submittal of Implementation Plans, EPA, 40 CFR part 51.

• Issues Relating to VOC Regulation Cutpoints, Deficiencies, and Deviations, EPA (May 25, 1988) (The Bluebook).

• Guidance Document for Correcting Common VOC & Other Rule Deficiencies, EPA Region 9 (August 21, 2001) (The Little Bluebook).

• PM-10 Guideline Document, EPA (April 1993).

B. Do the Rules Meet the Evaluation Criteria?

We believe VCAPCD Rules 50, 52, 53, 68, 74.25, and 102 are consistent with the relevant policy and guidance regarding enforceability, SIP relaxations, and fulfilling the requirements of RACT. The rules improve the SIP and should be approved. The rescission of VCAPCD Rules 55, 60, and 100 simplifies and does not relax the SIP. The TSD has more information on our evaluation.

C. Public Comment and Final Action

As authorized in section 110(k)(3) of the CAA, we are fully approving the submitted Rules 50, 52, 53, 68, 74.25, and 102 and we are approving the rescission of Rules 55, 60, and 100, because we believe these actions fulfill all relevant requirements. We do not think anyone will object to this, so we are finalizing the approval without proposing it in advance. However, in the Proposed Rules section of this Federal Register, we are simultaneously proposing approval of the same submitted rules. If we receive adverse comments by September 8, 2005, we will publish a timely withdrawal in the Federal Register to notify the public that the direct final approval will not take effect and we will address the comments in a subsequent final action based on the proposal. If we do not receive timely adverse comments, the direct final approval will be effective without further notice on October 11, 2005. This will incorporate Rules 50, 52, 53, 68, 74.25, and 102 into the federally enforceable SIP and rescind Rules 55, 60, and 100 from the SIP.

Please note that if EPA receives adverse comment on an amendment, paragraph, or section of this rule and if that provision may be severed from the remainder of the rule, EPA may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by October 11, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen oxides, Ozone, Particulate matter, Reporting and recordkeeping requirements, Sulfur dioxide.

Authority: 42 U.S.C. 7401 et seq.

Dated: July 1, 2005.
Wayne Nastri,
Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(6)(xxiv)(B), (21)(xiii)(B), (177)(i)(A)(3), (332)(i)(B)(2) and (3), and (335)(i)(C) to read as follows:

§ 52.220 Identification of plan.

* * * * *

(c) * * *

(6) * * *

(xxiv) * * *

(B) Previously approved on September 22, 1972 in paragraph (c)(6) of this section and now deleted without replacement, Rule 100.

* * * * *

(21) * * *

(xiii) * * *

(B) Previously approved on August 15, 1977 in paragraph (c)(21)(xiii)(A) of this section and now deleted without replacement, Rule 60.

* * * * *

(177) * * *

(i) * * *

(A) * * *

(3) Previously approved on August 6, 1990 in paragraph (c)(177)(i)(A) of this section and now deleted without replacement, Rule 55.

* * * * *

(332) * * *

(i) * * *

(B) * * *

(2) Rules 50, 52, and 53, adopted on July 2, 1968 and revised on April 13, 2004.

(3) Rules 68 and 102, adopted on May 23, 1972 and revised on April 13, 2004.

* * * * *

(335) * * *

(i) * * *

(C) Ventura County Air Pollution Control District.

(1) Rule 74.25, adopted on October 12, 2004.

* * * * *

[FR Doc. 05-15741 Filed 8-8-05; 8:45 am]

BILLING CODE 6560-50-P